FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR part 10, Environmental Consideration. No environmental impact assessment has been prepared.

Regulatory Flexibility Act

The Associate Director, Mitigation Directorate, certifies that this rule is exempt from the requirements of the Regulatory Flexibility Act because final or modified base flood elevations are required by the Flood Disaster Protection Act of 1973, 42 U.S.C. 4104, and are required to establish and maintain community eligibility in the National Flood Insurance Program. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. * Elevation in feet (NGVD)
CONNECTICUT
Meriden (City), New Haven County (FEMA Docket No. 7307)
Quinnipiac River:
At downstream corporate limits | *70
Approximately 1.04 miles upstream of Oregon Road | *101
Sodom Brook:
Approximately 0.53 mile downstream of Coe Avenue | *92
At downstream side of Leonard Street | *137
Harbor Brook:
Approximately 0.58 mile downstream of Coe Avenue | *91
At confluence of Willow and Spoon Shop Brooks | *205
Spoon Shop Brook:
At confluence with Harbor Brook | *205
At Birdsey Avenue | *370
Willow Brook:
At confluence with Harbor Brook | *205
Approximately 0.7 mile upstream of Cinema Road | *283
Crow Hollow Brook:
At confluence with Sodom Brook | *99
Approximately 70 feet upstream of West Main Street | *193
Maps available for inspection at the Meriden City Hall, 142 East Main Street, Meriden, Connecticut.
FLORIDA
Apopka (City), Orange County (FEMA Docket No. 7275)
Lake Alden:
Entire shoreline within community | *68
Lake Cora:
Entire shoreline within community | *64
Upper Lake Doe:
Entire shoreline within community | *71
Lower Lake Doe:
Entire shoreline within community | *71
Lake Hiawatha:
Entire shoreline within community | *74
Marshall Lake:
Entire shoreline within community | *71
Lake Maynard:
Entire shoreline within community | *70
Lake Merril and Wolf Lake:
Entire shoreline within community | *64
Lake Pearl No. 1:
Entire shoreline within community | *70
Lake Prevatt:
Entire shoreline within community | *61
Lake Rutherford:
Entire shoreline within community | *71
Lake Standish:
Approximately 800 feet southwest of intersection of Ellen Lane and Schopke Lester Road | *68
Lake Witherington:
Entire shoreline within community | *70
Lake Francis:
Entire shoreline within community | *65
Lake Opal:
Entire shoreline within community | *85
Lake Carter:
Entire shoreline within community | *76
Unnamed Lake 12:
Entire shoreline within community | *70
Unnamed Lake 13:
Entire shoreline within community | *70
Lake McCoy:
Entire shoreline within community | *67
Border Lake:
Entire shoreline within community | *80
Dream Lake:
Approximately 350 feet northeast of intersection of Lakeside Drive and North Lake Avenue | *117
Lake Jackson No. 2:
Entire shoreline within community | *82
Medicine Lake:
Approximately 700 feet southwest of intersection of Ocoee Apopka Road and West Keene Road | *73
Maps available for inspection at the City Engineer's Office, 120 East Maine Street, Second Floor, Apopka, Florida.
———
Auburndale (City), Polk County (FEMA Docket No. 7231)
Lake Arianna:
Entire shoreline within community | *138
Lake Lena:
Entire shoreline within community | *138
Lake Myrtle No. 1:
Entire shoreline within community | *142
Lake Juliana:
Entire shoreline within community | *136
Lake Mariana:
Entire shoreline within community | *140
Maps available for inspection at the City of Auburndale Building and Zoning Division, 207 Orange Street, Auburndale, Florida.
———
Blountstown (City), Calhoun County (FEMA Docket No. 7271)
Apalachicola River:
At South Mayhaw Drive | *57
At northern corporate limits | *61
Sutton Creek:
Upstream side of South Mayhaw Drive | *57
Upstream side of Sherry Avenue | *57
Maps available for inspection at the Blountstown City Hall, 125 West Central Avenue, Blountstown, Florida.
———
Calhoun County (Unincorporated Areas) (FEMA Docket No. 7271)
Apalachicola River:
At southern county boundary | *36
At northern county boundary | *72
Chipola River:
At mouth at Dead Lakes | *41
At county boundary | *60
Maps available for inspection at the Calhoun County Building Inspector's Office, 425 East Central Avenue, 3rd Floor, Blountstown, Florida.
———
Dundee (Town), Polk County (FEMA Docket No. 7231)
Peace Creek Drainage Canal:
West of CSX Transportation crossing Town of Dundee and Polk County corporate limits, approximately 1,250 feet northwest of Lake Annie | *121
Approximately 500 feet west of U.S. Route 27 and State Route 25 crossing Town of Lake Hamilton and Town of Dundee corporate limits | *123
Maps available for inspection at the Dundee Town Hall, 105 Center Street, Dundee, Florida.
———
Eagle Lake (City), Polk County (FEMA Docket No. 7231)
Lake McLeod:
Entire shoreline within community | *135
Eagle Lake:
Entire shoreline within community | *132
Wahneta Farms Canal:
Approximately 2,000 feet southwest of intersection of Snively Avenue and 8th Street (extended) | *132
Maps available for inspection at the Eagle Lake City Hall, 75 North Seventh Street, Eagle Lake, Florida.
———
Eatonville (Town), Orange County (FEMA Docket No. 7275)
Lake Shadow:
Approximately 1,000 feet northwest of intersection of West Kennedy Boulevard and South Keller Road | *85
Maps available for inspection at the Eatonville Town Hall, 307 East Kenney Boulevard, Eatonville, Florida.
———
Haines City (City), Polk County (FEMA Docket No. 7231)
Hammock Lake:
Entire shoreline within community | *135
Lake Brooks:
Entire shoreline within community | *135
Little Lake Hamilton:
Entire shoreline within community | *124
Lake Alice:
Entire shoreline within community | *131
Shallow Flooding Area:
Between Baker Dairy Road and Marion Creek Road | *115
Maps available for inspection at the Haines City City Hall, 502 East Hinson Avenue, Haines City, Florida.
———
Hillcrest Heights (Town), Polk County (FEMA Docket No. 7231)
Crooked Lake:
Entire shoreline within community | *126
Maps available for inspection at the Lake Wales City Hall, 152 East Central Avenue, Lake Wales, Florida.
———
Lake Alfred (City), Polk County (FEMA Docket No. 7231)
Lake Alfred:
Entire shoreline within community | *135
Lake Swoope:
Entire shoreline within community | *134
Maps available for inspection at the Lake Alfred Building Department, 155 East Pomelo Street, Lake Alfred, Florida.
———
Lake Hamilton (Town), Polk County (FEMA Docket No. 7231)
Lake Hamilton:
Entire shoreline within community | *124
Little Lake Hamilton:
At Kokomo Road and 6th Street intersection | *124
Maps available for inspection at the Lake Hamilton Town Hall, 100 Smith Avenue, Lake Hamilton, Florida.
———
Lake Wales (City), Polk County (FEMA Docket No. 7231)
Peace Creek Drainage Canal:
Approximately 0.95 mile upstream of State Road 653 | *117
Approximately 0.60 mile upstream of Olson Road | *120
Peace Creek Drainage Canal Tributary 2:
Approximately 1,500 feet southwest of intersection of Hunt Brothers Road and U.S. Route 27 | *118
At confluence with Peace Creek Drainage Canal | *119
Lake Myrtle No. 2:
Entire shoreline within community | *120
Maps available for inspection at the Lake Wales City Hall, 152 East Central Avenue, Lake Wales, Florida.
———
Lakeland (City), Polk County (FEMA Docket No. 7231)
Lake Parker No. 1:
Entire shoreline within community | *134
Lake Gibson:
Entire shoreline within community | *146
Lake Parker Tributary:
Approximately 100 feet downstream of Lakeshore Drive | *134
At State Road 33 | *134
Maps available for inspection at the City of Lakeland Building Inspection Division, 228 South Massachusetts Avenue, Lakeland, Florida.
———
Maitland (City), Orange County (FEMA Docket No. 7275)
Lake Maitland:
Entire shoreline within community | *70
Stream A No. 2:
Approximately 1,100 feet upstream of Dommerich Drive | *69
Approximately 1,400 feet upstream of Dommerich Drive | *70
Lake Minnehaha:
Approximately 1,000 feet south of intersection of Mayo Avenue and Silver Palm Lane | *68
Maps available for inspection at the Maitland City Hall, Building and Zoning Department, 1776 Independence Lane, Maitland, Florida.
———
Ocoee (City), Orange County (FEMA Docket No. 7275)
Tributary to Lake Lotta:
At State Highway 50 | *101
Approximately 100 feet upstream of South Bluford Avenue | *117
Lake Addah:
Entire shoreline within community | *81
Lake Lotta:
Entire shoreline within community | *93
Lake Lilly No. 1:
Entire shoreline within community | *122
Lake Pearl No. 3:
Entire shoreline within community | *122
Maps available for inspection at the Ocoee City Hall, Building and Zoning Department, 150 North Lakeshore Drive, Ocoee, Florida.
———
Orange County (Unincorporated Areas) (FEMA Docket No. 7275)
Lake Addah:
Entire shoreline within community | *81
Lake Alma:
Entire shoreline within community | *77
Lake Alpharetta:
Entire shoreline within community | *74
Lake Arlie:
Entire shoreline within community | *76
Lake Austin:
Entire shoreline within community | *114
Lake Avalon:
Entire shoreline within community | *99
Lake Bartho:
Entire shoreline within community | *56
Border Lake:
Entire shoreline within community | *80
Lake Buchanan:
Entire shoreline within community | *95
Buck Lake:
Entire shoreline within community | *80
Lake Buynak:
Entire shoreline within community | *114
Lake Carter:
Approximately 1,000 feet southeast of Ocoee Apopka Road and West Keene Road | *76
Club Lake:
Entire shoreline within community | *61
Corner Lake:
Entire shoreline within community | *64
Lake Cortez:
Entire shoreline within community | *69
Lake Crescent:
Entire shoreline within community | *105
Downey Lake:
Entire shoreline within community | *73
Lake Drawdy:
Entire shoreline within community | *59
Dwarf Lake:
Entire shoreline within community | *77
Lake Ellenore:
Entire shoreline within community | *98
Lake Eve:
Entire shoreline within community | *106
Lake Fredrica:
Entire shoreline within community | *100
Lake Gem Mary:
Entire shoreline within community | *93
Lake Gigi:
Entire shoreline within community | *90
Grass Lake:
Entire shoreline within community | *114
Heiniger Lake:
Entire shoreline within community | *72
Lake Heney:
Entire shoreline within community | *105
Lake Hiawassee:
Entire shoreline within community | *84
Hickory Nut Lake:
Entire shoreline within community | *106
Lake Herrick:
Entire shoreline within community | *83
Lake Geyer:
Entire shoreline within community | *84
Holts Lake:
Entire shoreline within community | *106
Lake Lerla:
Entire shoreline within community | *67
Lake Lilly No. 1:
Entire shoreline within community | *122
Lake Lotta:
Entire shoreline within community | *93
Lake Louise No. 2:
Entire shoreline within community | *63
Lake Lucie:
Entire shoreline within community | *64
Lake Lucy:
Entire shoreline within community | *73
Lake Luzom:
Entire shoreline within community | *112
Lake Mac:
Entire shoreline within community | *114
Lake Maggiore:
Entire shoreline within community | *88
Lake Minore:
Entire shoreline within community | *88
Lake Marden:
Entire shoreline within community | *79
Marshall Lake:
Entire shoreline within community | *71
Lake Maynard:
Approximately 1,000 feet north of intersection of Marden Road and West Keene Road | *70
Lake McCoy:
Entire shoreline within community | *67
Medicine Lake:
Entire shoreline within community | * 73
Lake Merril:
Approximately 1,000 feet east of intersection of West Ponkan Road and Ponkan Pines Road | * 64
Mudd Lake:
Entire shoreline within community | * 114
Lake Nan:
Entire shoreline within community | * 67
Lake Needham:
Entire shoreline within community | * 108
Neighborhood Lakes:
Entire shoreline within community | * 62
Lake Oliver:
Entire shoreline within community | * 114
Lake Opal:
Entire shoreline within community | * 85
Lake Paxton:
Entire shoreline within community | * 50
Lake Pearl No. 2:
Entire shoreline within community | * 56
Lake Pearl No. 3:
Entire shoreline within community | * 122
Lake Pickett:
Entire shoreline within community | * 59
Lake Pinto:
Entire shoreline within community | * 84
Lake Prevatt:
Entire shoreline within community | * 61
Red Lake:
Entire shoreline within community | * 80
Lake Rhea:
Entire shoreline within community | * 118
Lake Rose:
Entire shoreline within community | * 90
Lake Rouse:
Entire shoreline within community | * 70
Lake Rutherford:
Entire shoreline within community | * 71
Lake Semmes:
Entire shoreline within community | * 72
Lake Sentinel:
Entire shoreline within community | * 112
Sheppard Lake:
Entire shoreline within community | * 72
Lake Small:
Entire shoreline within community | * 79
Lake Standish:
Entire shoreline within community | * 68
Lake Star:
Entire shoreline within community | * 112
Lake Tanner:
Entire shoreline within community | * 50
Lake Tiny:
Entire shoreline within community | * 76
Tub Lake:
Entire shoreline within community | * 96
Sandy Lake:
Entire shoreline within community | * 100
Unnamed Lake A:
Entire shoreline within community | * 108
Unnamed Lake B:
Entire shoreline within community | * 108
Lake Tyler:
Entire shoreline within community | * 95
Steer Lake:
Entire shoreline within community | * 89
Unnamed Lake C:
Entire shoreline within community | * 108
Unnamed Lake D:
Entire shoreline within community | * 106
Unnamed Lake E:
Entire shoreline within community | * 106
Unnamed Lake F:
Entire shoreline within community | * 106
Unnamed Lake G:
Entire shoreline within community | * 106
Unnamed Lake H:
Entire shoreline within community | * 106
Unnamed Lake I:
Entire shoreline within community | *106
Unnamed Lake J:
Entire shoreline within community | *107
Unnamed Lake K:
Entire shoreline within community | *107
Lake Whitney:
Entire shoreline within community | *114
Pond C (Tributary to Apopka):
Entire shoreline within community | *70
Pond B (Tributary to Apopka):
Entire shoreline within community | *70
Pond A (Tributary to Apopka):
Entire shoreline within community | *70
Dream Lake:
Entire shoreline within community | *117
Unnamed Lake 13:
Entire shoreline within community | *70
Unnamed Lake 12:
Entire shoreline within community | *70
Unnamed Lake 17:
Entire shoreline within community | *70
Unnamed Lake 14:
Entire shoreline within community | *109
Unnamed Lake 14:
Entire shoreline within community | *106
Unnamed Lake 15:
Entire shoreline within community | *106
Lake Olivia-East:
Entire shoreline within community | *99
Hart Branch:
Approximately 2,700 feet upstream of confluence with Lake Hart | *65
Approximately 1 mile upstream from OUC railroad bridge | *82
Myrtle Bay:
Approximately 650 feet upstream of confluence with Lake Hart | *65
At Narcoosee Road | *80
Tributary to Lake Lotta:
At State Highway 50 | *101
Approximately 1,000 feet upstream of Chicago Avenue | *107
East Tributary to Econlockhatchee River:
At Seminole Trail | *49
Approximately 150 feet upstream of Old Cheney Highway | *65
West Tributary to Econlockhatchee River:
Approximately 1,900 feet upstream of confluence with Econlockhatchee River | *42
Approximately 250 feet upstream of State Highway 50 | *52
Shingle Creek:
Approximately 2,000 feet upstream of downstream county boundary | *77
Approximately 1,400 feet upstream of West Oak Ridge Road | *95
Howell Creek:
Approximately 800 feet east of Cove Colony Road and North Thistle Lane intersection | *67
Approximately 650 feet north of Temple Trail and Cove Trail intersection | *67
Lake Gear:
Approximately 200 feet west of intersection of Maltby Avenue and Daubert Street | *112
Rio Pinar Canal:
Approximately 650 feet upstream of confluence with Azalea Park Outfall Canal | *79
Downstream side of Lake Underhill Road | *82
Disston Canal:
At confluence with Lake Mary Jane | *64
At divergence from Econlockhatchee River | *64
Tributary to Hart Branch:
At confluence with Hart Branch | *78
Approximately 0.8 mile upstream of confluence with Hart Branch | *82
Crowell Lake:
Entire shoreline within community | *104
Stream B Swamp:
Entire shoreline within community | *116
At confluence with Tributary C | *115
Approximately 450 feet upstream from confluence with Tributary C | *115
Lake Olivia:
Entire shoreline within community | *98
Little Lake Bryan:
Entire shoreline within community | *101
Upper Lake Doe:
Entire shoreline within community | *71
Lake Bryan:
Approximately 400 feet southeast of intersection of Vista Lake Lane and Lake Vining Drive | *100
Lake Catherine No. 1:
Approximately 1,000 feet northwest of intersection of Castle Palm Road and South Texas Avenue | *94
Lake Mann:
Approximately 200 feet north of intersection of Lenox Boulevard and Florence Avenue | *95
Maps available for inspection at the Stormwater Management Department, 4200 South John Young Parkway, Orlando, Florida.
———
Orlando (City), Orange County (FEMA Docket No. 7275)
Lake Dover:
Entire shoreline within community | *111
Lake Gem Mary:
Entire shoreline within community | *93
East Orlando Outfall Canal:
Approximately 650 feet upstream of Wild Horse Road | *95
At South Semoran Boulevard | *96
Lake Corrine Outfall Canal:
At Truman Road | *92
Downstream side of Japonica Street | *93
Lake Fredrica:
Entire shoreline within community | *100
Lake Gear:
Entire shoreline within community | *112
Lake Nona:
Entire shoreline within community | *80
Mud Lake:
Entire shoreline within community | *76
Lake Pamela:
Entire shoreline within community | *113
Sandy Lake:
Entire shoreline within community | *100
Bay Lake:
Entire shoreline within community | *93
Lake Shannon:
Entire shoreline within community | *113
Red Lake:
Entire shoreline within community | *80
Buck Lake:
Entire shoreline within community | *80
Lake Hiawassee:
Entire shoreline within community | *84
Lake Warren No. 1:
Entire shoreline within community | *90
Shingle Creek:
At Raleigh Street | *98
At downstream corporate limit | *95
Maps available for inspection at the City of Orlando Permitting Services, 400 South Orange Avenue, Orlando, Florida.
———
Polk City (Town), Polk County (FEMA Docket No. 7231)
Mud Lake:
Entire shoreline within community | *143
Mud Lake Drain:
At State Route 33 | *142
At confluence of Mud Lake | *143
Maps available for inspection at the Polk City Town Hall, 132 Commonwealth Avenue, Polk City, Florida.
———
Polk County (Unincorporated Areas) (FEMA Docket No. 7307)
Fox Branch Tributary:
At confluence with Fox Branch | *142
Approximately 400 feet upstream of Duff Road | *151
Blackwater Creek:
At downstream county boundary | *112
At North Galloway Road | *137
Blackwater Creek Tributary 2:
At downstream county boundary | *108
Approximately 900 feet upstream of Ross Creek Road | *132
Wahneta Farms Canal:
At confluence with Peace Creek Drainage Canal | *108
Downstream side of Hoover Road | *133
Wahneta Farms Canal Tributary:
At confluence with Wahneta Farms Canal | *119
Approximately 0.85 mile upstream of Eagle Lake Loop Road | *132
Peace Creek Drainage Canal Tributary 3:
Approximately 1,300 feet upstream of confluence with Peace Creek Drainage Canal | *122
Approximately 1.3 miles upstream of Lake Daisy Road | *128
Peace Creek Drainage Canal Tributary 4:
At confluence with Peace Creek Drainage Canal | *124
Approximately 0.5 mile upstream of Dundee Road | *126
Itchepackesassa Creek Tributary 1:
At the confluence with Itchepackesassa Creek | *120
Downstream side of North Wabash Avenue | *136
Itchepackesassa Creek Tributary 2:
At the confluence with Itchepackesassa Creek | *120
Approximately 400 feet upstream of Old Tampa Highway | *129
Fox Branch:
At Polk County boundary | *85
Approximately 1,000 feet upstream of U.S. Route 98 | *149
Lake Lowery:
Entire shoreline within county | *135
Mountain Lake:
Entire shoreline within county | *121
Lake Effie:
Entire shoreline within county | *122
Lake Lee No. 2:
Entire shoreline within county | *124
Venus Lake:
Entire shoreline within county | *127
Lake Parker No. 2:
Entire shoreline within county | *123
Hammock Lake:
Entire shoreline within county | *135
Tower Lake:
Entire shoreline within county | *135
Bonnet Lake:
Entire shoreline within county | *135
Lake Brooks:
Entire shoreline within county | *135
Scott Lake:
Entire shoreline within county | *172
Banana Lake:
Entire shoreline within county | *107
Lake Myrtle No. 1:
Entire shoreline within county | *142
Little Van Lake:
Entire shoreline within county | *142
Lake Griffin:
Entire shoreline within county | *135
Lake Alfred:
Entire shoreline within county | *135
Lake Medora:
Entire shoreline within county | *141
Lake Mariana:
Entire shoreline within county | *140
Lake Blue:
Entire shoreline within county | *151
Sears Lake:
Entire shoreline within county | *144
Lake Gross:
Entire shoreline within county | *140
Lake Gibson:
Entire shoreline within county | *146
Lake McLeod:
Entire shoreline within county | *135
Spirit Lake:
Entire shoreline within county | *135
Grassy Lake No. 2:
Entire shoreline within county | *136
Eagle Lake:
Entire shoreline within county | *132
Millsite Lake:
Entire shoreline within county | *126
Lake Parker No. 1:
Entire shoreline within county | *134
Lake Bonnet Drain:
Just downstream of North Chestnut Road | *140
Approximately 300 feet downstream of Brunnell Parkway | *144
Lake Garfield:
Entire shoreline within county | *108
Lake Myrtle No. 2:
Entire shoreline within county | *120
Round Lake:
Entire shoreline within county | *131
Reeves Lake:
Entire shoreline within county | *126
Lake Hart:
Entire shoreline within county | *126
Lake Ruby:
Entire shoreline within county | *126
Lake Daisy:
Entire shoreline within county | *132
Lake Fox:
Entire shoreline within county | *136
River Lake:
Entire shoreline within county | *141
Lake Florence:
Entire shoreline within county | *130
Crystal Lake No. 3:
Entire shoreline within county | *131
Lake Reed:
Entire shoreline within county | *140
Lake Annie:
Entire shoreline within county | *124
Lake Arbuckle:
Entire shoreline within county | *59
Lake Bess:
Entire shoreline within county | *126
Dinner Lake No. 1:
Entire shoreline within county | *130
Dinner Lake No. 2:
Entire shoreline within county | *124
Grassy Lake No. 3:
Entire shoreline within county | *129
Thomas Lake No. 1:
Entire shoreline within county | *137
Camp Lake:
Entire shoreline within county | *134
Lake Eva No. 1:
Entire shoreline within county | *135
Lake Swoope:
Entire shoreline within county | *134
Little Lake Hamilton:
Entire shoreline within county | *124
Lake Hamilton:
Entire shoreline within county | *124
Middle Lake Hamilton:
Entire shoreline within county | *124
Lake Streety:
Entire shoreline within county | *110
Hickory Lake:
Entire shoreline within county | *99
Silver Lake:
Entire shoreline within county | *106
Lake Weohyakapka:
Entire shoreline within county | *65
Lake Leonore:
Entire shoreline within county | *88
Blue Lake:
Entire shoreline within county | *125
Lake Moody:
Entire shoreline within county | *94
Mud Lake:
Entire shoreline within county | *143
Surveyors Lake:
Entire shoreline within county | *135
Gator Lake:
Entire shoreline within county | *135
Grassy Lake No. 4:
Entire shoreline within county | *140
Polecat Lake:
Entire shoreline within county | *144
Tiger Lake:
Entire shoreline within county | *57
Lake Aurora:
Entire shoreline within county | *103
Big Gum Lake:
Entire shoreline within county | *96
Cypress Lake No. 1:
Entire shoreline within county | *102
Little Gum Lake:
Entire shoreline within county | *98
Parks Lake:
Entire shoreline within county | *105
Thomas Lake No. 2:
Entire shoreline within county | *106
Lake Mabel:
Entire shoreline within county | *117
Lake Tennessee:
Entire shoreline within county | *136
Lake Juliana:
Entire shoreline within county | *136
Lake Starr:
Entire shoreline within county | *117
Lake Otis:
Entire shoreline within county | *134
Lake Ring:
Entire shoreline within county | *138
Lake Elizabeth:
Entire shoreline within county | *135
Lake Ida No. 1:
Entire shoreline within county | *138
Lester Lake:
Entire shoreline within county | *132
Polk Lake:
Entire shoreline within county | *110
Mud Lake Drain:
Approximately 700 feet downstream of State Road 33 | *138
At confluence of Mud Lake | *143
Crystal Lake No. 1:
Entire shoreline within county | *140
Lake Davenport:
Entire shoreline within county | *121
Horse Creek:
Approximately 1,450 feet above State Route 547 | *115
Approximately 2,300 feet above State Route 547 | *115
Lake Hatchineha:
Entire shoreline within county | *57
Lake Boomerang:
Entire shoreline within county | *123
Grassy Lake No. 1:
Entire shoreline within county | *134
Lake Holloway:
Entire shoreline within county | *141
Crews Lake:
Entire shoreline within county | *149
Lake Henry No. 2:
Entire shoreline within county | *160
Old Lake Davenport:
Entire shoreline within county | *112
Seward Lake:
Entire shoreline within county | *136
Hidden Lake:
Entire shoreline within county | *134
Sick Lake:
Entire shoreline within county | *134
Reedy Creek:
At a point approximately 16.1 miles above mouth | *67
At a point approximately 19.9 miles above mouth | *68
Maps available for inspection at the Polk County Engineering Department, 330 West Church Street, Bartow, Florida.
———
Winter Garden (City), Orange County (FEMA Docket No. 7275)
Winter Garden Coop Ditch:
Approximately 1,800 feet downstream of CSX Transportation | *82
Approximately 800 feet downstream of CSX Transportation | *87
Maps available for inspection at the Winter Garden City Hall, 251 West Plant Street, Winter Garden, Florida.
———
Winter Haven (City), Polk County (FEMA Docket No. 7231)
Lake Hamilton:
Entire shoreline within community | *124
Middle Lake Hamilton:
Entire shoreline within community | *124
Lake Otis:
Entire shoreline within community | *134
Lake Elbert:
Entire shoreline within community | *139
Lake Ida No. 1:
Entire shoreline within community | *138
Lake Silver:
Entire shoreline within community | *148
Lake Idyl:
Entire shoreline within community | *137
Maps available for inspection at the Winter Haven Public Works Department, Engineering Division, 550 7th Street, SW, Winter Haven, Florida.
GEORGIA
Rockdale County (Unincorporated Areas) (FEMA Docket No. 7307)
Lake Capri Tributary, including Lakes Sorrento, Capri, and Capistrano:
Approximately 70 feet downstream of Lake Capri Drive | *719
Downstream side of Rockbridge Road | *734
Hammock Creek:
At confluence of Yellow River | *711
Approximately 0.28 mile upstream of Humphries Road | *814
Yellow River:
Approximately 2,950 feet upstream of Irwan Bridge Road | *711
At county boundary | *719
Big Haynes Creek, including Big Haynes Reservoir:
Approximately 8,000 feet upstream from State Route 138 | *740
Approximately 2,850 feet upstream from Haralson Mill Road | *752
Maps available for inspection at the Rockdale County Department of Public Services, 2570 Old Covington Highway, Conyers, Georgia.
ILLINOIS
Alsip (Village), Cook County (FEMA Docket No. 7259)
Tinley Creek:
Shallow flooding approximately 450 feet west of the intersection of State Route 83 (Calumet Sag Road) and 127th Street | *600
At intersection of Central Avenue and 127th Street | *602
Merrionette Park Ditch:
Approximately 50 feet upstream of 123rd Street | *594
Approximately 0.4 mile upstream of 123rd Street | *596
Maps available for inspection at the Alsip Building Department, 4500 West 123rd Street, Alsip, Illinois.
———
Arlington Heights (Village), Cook County (FEMA Docket No. 7287)
Salt Creek, Arlington Heights Branch:
Upstream side of Euclid Avenue | *707
Downstream face of Chicago and Northwestern Railway | *710
Maps available for inspection at the Village of Arlington Heights Engineering Department, 33 South Arlington Heights Road, Arlington Heights, Illinois
———
Bedford Park (Village), Cook County (FEMA Docket No. 7259)
Des Plaines River:
Approximately 1,000 feet downstream of Interstate 55 | *598
Approximately 1.6 miles upstream of Interstate Route 55 | *599
71st Street Ditch:
Approximately 400 feet downstream of the intersection of 71st Street and Blackstone Avenue | *590
Approximately 350 feet upstream of the intersection of 71st Street and 86th Avenue | *592
Maps available for inspection at the Bedford Park Village Office, 6701 South Archer Road, Bedford Park, Illinois.
———
Blue Island (City), Cook County (FEMA Docket No. 7259)
Midlothian Creek:
Approximately 800 feet upstream of the confluence with Little Calumet River | *590
Approximately 1,000 feet upstream of Missouri-Kansas-Texas Railroad | *596
Stony Creek (East):
Upstream side of Burr-Oak Avenue | *583
At Central Park Avenue | *585
Maps available for inspection at the Blue Island City Building Department, 13051 South Greenwood Avenue, Blue Island, Illinois.
———
Bridgeview (Village), Cook County (FEMA Docket No. 7259)
Lucas Ditch Cutoff:
At 103rd Street | *593
Approximately 0.54 mile upstream of 103rd Street | *594
Maps available for inspection at the Bridgeview Village Engineering Department, 7100 South Thomas, Bridgeview, Illinois.
———
Broadview Village), Cook County (FEMA Docket No. 7259)
Salt Creek:
Approximately 1,350 feet upstream of confluence of Addison Creek | *620
At upstream corporate limits | *622
Maps available for inspection at the Broadview Village Building Department, 2350 South 25th Avenue, Broadview, Illinois.
———
Brookfield (Village), Cook County (FEMA Docket No. 7259)
Des Plaines River:
Approximately 0.53 mile downstream of Burlington Northern Railroad | *613
Approximately 0.24 mile downstream of 26th Street | *617
Maps available for inspection at the Brookfield Village Hall, 8820 Brookfield Avenue, Brookfield, Illinois.
———
Burnham (Village), Cook County (FEMA Docket No. 7259)
Grand Calumet River:
At Burnham Avenue | *581
Approximately 600 feet upstream of CSX Transportation | *581
Maps available for inspection at the Burnham Village Clerk's Office, 14450 Manistee Avenue, Burnham, Illinois.
———
Chicago (City), Cook County (FEMA Docket No. 7259)
Lake Michigan:
Entire shoreline within community | *585
Grand Calumet River:
Just upstream of South Torrence Avenue | *581
Just downstream of East 138 Street | *581
Crystal Creek:
Approximately 405 feet downstream of Mannheim road | *639
Approximately 1,000 feet upstream of Lawrence Avenue | *639
Willow Creek:
Approximately 250 feet southwest of Thorndale Avenue/Scott Street intersection | *632
Approximately 700 feet upstream of Wolf Road | *646
Silver Creek:
At downstream corporate limit | *652
At Irving Park Road | *652
Industrial Tributary:
At intersection of Irving Park Road and Lawrence Avenue | *643
Des Plaines River:
Upstream side of Belmont Avenue | *627
Approximately 120 feet upstream of West Higgins Road | *629
Maps available for inspection at the City of Chicago Department of Environment, 30 North LaSalle Street, 25th Floor, Chicago, Illinois.
———
Chicago Heights (City), Cook County (FEMA Docket No. 7259)
Third Creek:
Approximately 0.5 mile downstream of Joe Orr Road | *627
Approximately 900 feet downstream of Joe Orr Road | *629
Butterfield Creek:
Approximately 900 feet downstream of Riegel Road | *628
Approximately 0.45 mile downstream of Dixie Highway | *635
Thorn Creek:
Approximately 0.5 mile downstream of Joe Orr Road | *625
Approximately 250 feet downstream of Joe Orr Road | *630
Maps available for inspection at the Chicago Heights Municipal Building, 1601 Chicago Road, Chicago, Illinois.
———
Cook County (Unincorporated Areas) (FEMA Docket No. 7259)
Salt Creek Tributary D:
Approximately 750 feet upstream of Hammond Drive | *732
Approximately 800 feet upstream of Roselle Road | *752
Salt Creek, Arlington Heights Branch:
At downstream face of Chicago and Northwestern Railway | *710
At downstream face of Forest Preserve Access Road | *778
Salt Creek West Branch:
Approximately 250 feet downstream of Interstate Route 290 | *693
Approximately 1,700 feet downstream of Basswood Road | *736
Salt Creek West Branch Tributary A:
At confluence with Salt Creek West Branch | *725
Approximately 1,375 feet upstream of confluence with Salt Creek West Branch | *730
Salt Creek (Upper Reach):
Approximately 400 feet upstream Evanston-Elgin Road | *693
Approximately 75 feet downstream of Meacham Road | *715
Salt Creek Arlington Heights Branch, Anderson Drive Tributary:
Approximately 2,750 feet downstream of Evergreen Drive | *717
Approximately 500 feet downstream of Evergreen Drive | *717
Buffalo Creek Tributary A:
Just upstream of Hicks Road | *740
Downstream face of Dundee Road | *743
Unnamed Tributary to Salt Creek Tributary D:
At confluence with Salt Creek Tributary D | *735
Approximately 3,400 feet upstream of the confluence with Salt Creek Tributary D | *750
North Creek:
Upstream face of Cottage Grove Avenue | *608
Approximately 1,000 feet upstream of Oakwood Drive | *611
Lansing Ditch, Lynwood Tributary:
Approximately 500 feet upstream of confluence of North Creek | *610
At Burnham Avenue | *616
Lansing Ditch:
Southwest corner of intersection of 204th Street and Burnham Avenue | *616
Approximately 0.96 mile upstream of 223rd Street | *653
Lansing Ditch, Tributary A:
Confluence with Lansing Ditch | *631
Just downstream of Katz Corner Road | *632
Lansing Ditch, East Tributary:
Approximately 1,000 feet upstream of confluence with Lansing Ditch | *636
Just downstream of Steger Road | *654
Lansing Ditch, West Tributary:
At confluence with Lansing Ditch | *631
Approximately 1,860 feet upstream of Torrence Avenue | *632
Lansing Ditch, Torrence Tributary:
At confluence with Lansing Ditch, just downstream of CONRAIL railroad tracks | *627
Approximately 1.26 miles upstream of confluence with Lansing Ditch | *630
Skokie River:
Just upstream of Willow Road | *627
Just downstream of LakeCook Road | *633
Skokie River, Botanical Garden Division:
At confluence with Skokie River | *628
At divergence from Skokie River | *633
Skokie River, Western Ditch:
At confluence with Skokie River | *626
Approximately 0.35 mile upstream of confluence with Skokie River | *626
Merrionette Park Ditch:
Upstream side of 123rd Street | *594
Approximately 0.4 mile upstream of 123rd Street | *596
Crestwood Drainage Ditch West:
Upstream side of 131st Street | *596
Approximately 1,700 feet downstream of 135th Street | *602
Butterfield Creek:
Approximately 75 feet upstream of Chicago Road (Riegel Road) | *632
Approximately 0.25 mile upstream of CONRAIL | *707
Butterfield Creek East Branch:
Approximately 1,125 feet upstream of Elgin, Joliet and Eastern Railway | *704
Approximately 1,000 feet upstream of Polk Avenue | *736
Butterfield Creek East Branch Tributary:
Upstream side of Imperial Drive | *730
Approximately 100 feet downstream of Lake Shore Drive | *730
Lansing Ditch, Lynwood Tributary:
At Glynwood Lansing Road | *614
At Burnham Avenue | *616
Lansing Ditch:
Approximately 1,350 feet upstream of confluence of Lansing Ditch Lynwood Tributary | 617
Approximately 1,850 feet upstream of confluence of Lansing Ditch Lynwood Tributary | *617
Calumet Sag Channel Tributary C:
Approximately 50 feet upstream of Midlothian Turnpike | *621
Approximately 0.38 mile upstream of Midlothian Turnpike | *625
Calumet Union Drainage Ditch:
Approximately 1,300 feet upstream of Vincenne's Road | *602
At Rockwell Street | *610
Dixie Creek:
Approximately 100 feet downstream of Interstate Route 294 | *607
Approximately 1,300 feet upstream of Interstate Route 294 | *607
Little Calumet River:
At confluence with Calumet Sag Channel | *588
Approximately 350 feet downstream of Torrence Avenue | *599
Silver Creek:
Approximately 250 feet downstream of 9th Avenue | *624
Approximately 350 feet downstream of Irving Park Road | *651
Willow Creek:
Approximately 100 feet upstream of Lee Street | 643
Approximately 1,400 feet downstream of Wolf Road | *645
Salt Creek (Upper & Lower Reach):
Approximately 650 feet downstream of 26th Street | *620
Approximately 0.8 mile downstream of John F. Kennedy Boulevard | *683
Chicago River, North Branch, Middle Fork:
At confluence with Chicago River, North Branch and Skokie River | *624
At Lake Cook Road | *651
Underwriters Tributary:
At confluence with Chicago River, North Branch, West Fork | *649
Approximately 1,250 feet upstream of confluence with Chicago River, North Branch, West Fork | *652
McDonald Creek:
Approximately 200 feet downstream of Des Plaines River Road | *638
Approximately 100 feet downstream of Foundry Lane | *638
63rd Street Ditch:
Approximately 50 feet upstream of confluence with Flag Creek | *640
Approximately 400 feet upstream of confluence with Flag Creek | *640
Filsen Park Ditch:
Approximately 20 feet upstream of confluence with 76th Avenue Ditch | *696
At Harlem Avenue | *696
Tinley Park Reservoir (Shallow Flooding Area):
Approximately 650 feet west of intersection of Oleander Avenue and 167th Street | *696 2
Tinley Park Reservoir (Ponding Area):
Approximately 900 feet west of intersection of Oleander Avenue and 167th Street | *694
At intersection of 180th Street and 70th Avenue | *695 0
Addison Creek:
Approximately 775 feet upstream of Cemetery Access Road | *649
Approximately 220 feet downstream of Chicago and Northwestern Railroad | *651
Boca Rio Ditch:
Approximately 0.32 mile downstream of 151st Street | *664
Just downstream of 151st Street | *670
Calumet Union Drainage Ditch, Southwest Branch:
Approximately 0.81 mile downstream of 167th Street | *609
Approximately 0.70 mile downstream of 167th Street | *609
Chicago River, North Branch:
Approximately 50 feet downstream of Golf Road | *620
At the confluence of the Skokie River and Chicago River, North Branch Middle Fork | *624
Skokie River:
At the confluence with Chicago River, North Branch | *624
Approximately 250 feet upstream of Dundee Road *627
Chicago River, North Branch, West Fork:
Approximately 175 feet upstream of Techny Road | *636
Approximately 250 feet upstream of Interstate 94 | *651
Des Plaines River:
Approximately 7.2 miles downstream of Wentworth Avenue | *594
Upstream county boundary | *644
Lansing Ditch East Tributary:
At Katz Corner Road | *638
Approximately 1,500 feet upstream of Katz Corner Road | *639
Long Run:
Approximately 900 feet downstream of State Route 171 (Archer Avenue) | *645
Approximately 2,350 feet upstream of the confluence of Long Run Tributary B | *653
Lord's Park Tributary:
Approximately 80 feet downstream of Lake Street | *721
Approximately 100 feet upstream of Lake Street | *724
Midlothian Creek:
Approximately 0.33 mile downstream of Waverly Avenue | *622
Approximately 1,250 feet downstream of 84th Avenue | *696
Midlothian Creek Western Tributary:
Just upstream of 84th Avenue | *702
Approximately 1,200 feet upstream of 84th Avenue | *702
Feehanville Ditch:
At confluence with Des Plaines River | *637
Approximately 1,725 feet upstream of the confluence with the Des Plaines River | *637
Farmer's Creek:
Approximately 375 feet downstream of Rand Road | *633
At Emerson Street | *635
Flint Creek Tributary:
Approximately 750 feet upstream of Lake Cook Road | *830
Approximately 1,900 feet upstream of Lake Cook Road | *833
Mill Creek:
Approximately 1,500 feet upstream of 123rd Street | *652
Approximately 900 feet downstream of Firestone Drive | *677
Natalie Creek:
Approximately 250 feet upstream of 149th Street | *636
At Cicero Avenue | *637
Lake Michigan:
For its entire shoreline within the community | *585
Butterfield Creek Ponding Area:
Approximately 300 feet northeast of intersection of Kostner Avenue and 205th Street | *692
Ponding Area:
At intersection of 178th Street and 70th Avenue | *695
Plainfield Road Ditch:
Approximately 100 feet upstream of confluence with Flag Creek | *638
Approximately 280 feet upstream of confluence with Flag Creek | *638
Poplar Creek East Branch:
Approximately 0.7 mile west of Barrington Road/Northwest Tollway intersection | *790
Techny Drain:
Approximately 250 feet upstream of confluence with Chicago River, North Branch, West Fork | *636
Approximately 0.5 mile upstream of confluence with Chicago River, North Branch, West Fork | *639
Thorn Creek:
Approximately 2,200 feet downstream of Volbrecht Road | *600
Approximately 300 feet downstream of Margaret Street | *604
Union Drainage Ditch:
Approximately 150 feet upstream of Oak Park Avenue | *694
Approximately 1,200 feet upstream of Oak Park Avenue | *694
Wheeling Drainage Ditch:
Approximately 1,350 feet upstream of confluence with Des Plaines River | *641
At intersection of Kerry Lane and Wolf Road | *642
Willow Creek Ponding Area:
Approximately 1,100 feet southwest of Lee Street/Touhy Avenue intersection | *642
Tinley Creek:
Approximately 200 feet west of intersection of Alpine Drive and 127th Street | *600
Approximately 600 feet south of intersection of South Manor Avenue and 127th Street | *604
Stony Creek (West):
Approximately 1,950 feet downstream of 107th Street | *589
At Harlem Avenue | *591
Long Run, Tributary B:
Approximately 430 feet upstream of confluence with Long Run | *650
Approximately 1,550 feet upstream of confluence with Long Run | *650
Mill Creek West Branch:
Approximately 300 feet upstream of Hobart Avenue | *667
Approximately 50 feet upstream of the most upstream crossing of 123rd Street | *668
Shallow Flooding Area:
Approximately 300 feet east of the intersection of 131st Street and Harlem Avenue | #1
76th Avenue Ditch:
Approximately 250 feet south of 167th Street | *696
Just downstream of 76th Avenue | *696
Maps available for inspection at the Cook County Building and Zoning Department, 69 West Washington, Suite 2830, Chicago, Illinois.
———
Crestwood (Village), Cook County (FEMA Docket No. 7259)
Calumet Sag Channel Tributary C:
At Midlothian Turnpike | *621
Approximately 0.35 mile upstream of Midlothian Turnpike | *624
Crestwood Drainage Ditch West:
Just upstream of Calumet Sag Road (State Route 83) | *594
Approximately 500 feet southwest of intersection of Rivercrest Drive and Cicero Avenue | *596
Tinley Creek (Upstream entry):
Approximately 400 feet west of intersection of Central Avenue and 131st Street | *611
Tinley Creek (Downstream entry):
Approximately 500 feet west of intersection of Alpine Drive and 127th Street | *600
Maps available for inspection at the Crestwood Village Clerk's Office, 13840 South Cicero Avenue, Crestwood, Illinois.
———
Deerfield (Village), Cook County (FEMA Docket No. 7259)
Chicago River, North Branch, West Fork:
Approximately 100 feet upstream of Interstate 94 | *651
At Lake Cook Road | *656
USACE Reservoir 29A:
Approximately 300 feet northwest of intersection of Edens Expressway and Pfingsten Road | *656
Maps available for inspection at the Deerfield Village Hall, 850 Waukegan Road, Deerfield, Illinois.
———
Des Plaines (City), Cook County (FEMA Docket No. 7259)
Feehanville Ditch:
At confluence with Des Plaines River | *637
Approximately 1,725 feet upstream of the confluence with Des Plaines River | *637
Farmer's Creek:
At confluence with Des Plaines River | *633
Approximately 350 feet upstream of U.S. Route 14 | *633
Wheeling Creek Ponding Area:
At intersection of Pratt Avenue and Alger Street | *642
Des Plaines River: |
Approximately 50 feet upstream of TriState Tollway | *631
Approximately 50 feet upstream of confluence of Feehanville Ditch | *637
Maps available for inspection at the Des Plaines City Hall, Engineering Department, 1420 Miner/Northwest Highway, 5th Floor, Des Plaines, Illinois.
———
Dixmoor (Village), Cook County (FEMA Docket No. 7259)
Shallow Flooding Area:
Ponding area south of Grand Trunk and Western Railway | *603
East of Dixie Highway and north of Sibley Boulevard | *603
Maps available for inspection at the Dixmoor Village Hall, 170 West 145th Street, Dixmoor, Illinois.
———
Elk Grove (Village), Cook County (FEMA Docket No. 7287)
Salt Creek, West Branch Tributary 6:
At confluence with Salt Creek West Branch | *708
Approximately 75 feet downstream of Plum Grove Road | *708
Salt Creek West Branch Tributary 7:
At confluence with Salt Creek West Branch Tributary 6 | *715
Approximately 1,450 feet upstream of Baltimore Drive | *727
Salt Creek West Branch:
Just upstream of Meacham Road | *706
Approximately 850 feet downstream of confluence of Salt Creek West Branch Tributary 3. | *714
Maps available for inspection at the Village of Elk Grove Engineering and Community Development, Charles Zeitek Municipal Center, 901 Wellington Avenue, Elk Grove, Illinois.
———
Elmwood Park (Village), Cook County (FEMA Docket No. 7259)
Golf Course Tributary:
Approximately 3,160 feet downstream of Fullerton Avenue | *625
Approximately 2,160 feet downstream of Fullerton Avenue | *625
Des Plaines River:
Upstream side of North Avenue | *625
Approximately 0.15 mile upstream of North Avenue | *625
Maps available for inspection at the Elmwood Park Village Hall, 11 Conti Parkway, Elmwood Park, Illinois.
———
Evanston (City), Cook County (FEMA Docket No. 7259)
Lake Michigan:
Entire shoreline affecting community | *585
Maps available for inspection at the City of Evanston's Engineer's Office, 2100 Ridge Avenue, Evanston, Illinois.
———
Flossmoor (Village), Cook County (FEMA Docket No. 7287)
Butterfield Creek Tributary No. 3:
Just upstream of Illinois Central Railway | *669
Approximately 105 feet upstream of Kedzie Avenue | *687
Butterfield Creek Tributary No. 4:
Just upstream of Illinois Central Railway | *665
Approximately 130 feet upstream of Governors Highway | *698
Maps available for inspection at the Flossmoor Public Works Department, Service Center, 1700 Central Park Avenue, Flossmoor, Illinois.
————
Forest Park (Village), Cook County (FEMA Docket No. 7259)
Des Plaines River:
Approximately 0.66 mile upstream of Cermak Road | *619
Downstream side of Madison Street | *622
Maps available for inspection at the Forest Park Village Hall, 517 Des Plaines Avenue, Forest Park, Illinois.
———
Franklin Park (Village), Cook County (FEMA Docket No. 7259)
Crystal Creek Tributary:
Approximately 85 feet downstream of Panoramic Drive | *643
Approximately 480 feet upstream of Mannheim Road | *645
Sexton Ditch:
Approximately 1,450 feet upstream of confluence with Crystal Creek Tributary | *643
Approximately 1,830 feet upstream of confluence with Crystal Creek Tributary | *643
Des Plaines River:
Just upstream of Belmont Avenue | *627
Approximately 500 feet downstream of Irving Park Road | *627
Maps available for inspection at the Franklin Park Village President's Office, 9500 Belmont Avenue, Franklin Park, Illinois.
———
Glencoe (Village), Cook County (FEMA Docket No. 7287)
Skokie River:
Approximately 250 feet upstream of Tower Road | *628
Approximately 450 feet upstream of Dundee Road (State Route 68) | *628
Skokie River Botanical Gardens Diversion:
Approximately 600 feet upstream of Botanical Gardens Dam | *630
Approximately 0.38 mile upstream of Botanical Gardens Dam | *630
Maps available for inspection at the Village of Glencoe Engineering Department, 675 Village Court, Glencoe, Illinois
———
Glenview (Village), Cook County (FEMA Docket No. 7259)
Chicago River, North Branch, Middle Fork:
At the confluence with the Skokie River and Chicago River, North Branch | *624
Approximately 0.26 mile downstream of Winnetka Road | *624
Maps available for inspection at the Glenview Village Engineering Department, 1225 Waukegan Road, Glenview, Illinois.
———
Glenwood (Village), Cook County (FEMA Docket No. 7259)
Butterfield Creek:
Approximately 300 feet upstream of Chicago Heights Glenwood Road | *616
Downstream side of Halsted Street | *620
Maps available for inspection at the Glenwood Village Building Department, 13 South Rebecca Street, Glenwood, Illinois.
———
Golf (Village), Cook County (FEMA Docket No. 7259)
Chicago River, North Branch, West Fork:
Approximately 50 feet downstream of Golf Road | *620
Approximately 0.77 mile upstream of Golf Road | *621
Maps available for inspection at the Golf Village Hall, One Briar Road, Golf, Illinois.
———
Harvey (City), Cook County (FEMA Docket No. 7259)
Dixie Creek Shallow Flooding Area:
At ponding area south of Grand Trunk and Western Railway | *603
East of Dixie Highway and north of 154th Street | *603
Calumet Union Drainage Ditch:
Approximately 250 feet upstream of Vincennes Road | *599
Approximately 200 feet downstream of Park Avenue | *606
Belaire Creek:
Approximately 0.22 mile downstream of Interstate 294 | *607
Approximately 425 feet downstream of Interstate 294 | *607
Maps available for inspection at the City of Harvey Planning and Development Department, 15320 Broadway, Harvey, Illinois.
———
Hazel Crest (Village), Cook County (FEMA Docket No. 7259)
Cherry Creek East Branch:
Approximately 80 feet upstream of 175th Street | *635
Approximately 430 feet upstream of Governors Highway | *640
Maps available for inspection at the Village of Hazel Crest Public Works Department, 3000 West 170th Place, Hazel Crest, Illinois.
———
Hickory Hills (City), Cook County (FEMA Docket No. 7307)
Lucas Ditch:
Approximately 1,000 feet upstream of Lucas Ditch Cut-Off Tributary | *594
Approximately 0.41 mile upstream of Lucas Ditch Cut-Off Tributary | *594
Maps available for inspection at the City of Hickory Hills Building Department, 8652 West 95th Street, Hickory Hills, Illinois.
———
Hillside (Village), Cook County (FEMA Docket No. 7259)
Addison Creek:
At Manheim Road | *637
Approximately 550 feet west of Manheim Road | *637
Maps available for inspection at the Hillside Village Hall, 30 North Wolf Road, Hillside, Illinois.
———
Hodgkins (Village), Cook County (FEMA Docket No. 7259)
Des Plaines River:
Approximately 100 feet downstream of Tri-State Tollway | *631
Approximately 800 feet upstream of Tri-State Tollway | *631
Maps available for inspection at the Hodgkins Village Hall, 8990 Lyons Avenue, Hodgkins, Illinois.
———
Hoffman Estates (Village), Cook County (FEMA Docket No. 7287)
Salt Creek (Upper Reach):
Approximately 400 feet upstream of Poteet Avenue | *815
Salt Creek, West Branch Tributary A:
Approximately 700 feet downstream of Basswood Road | *740
Approximately 125 feet upstream of Apple Street | *759
Maps available for inspection at the Village of Hoffman Estates Community Development Department, 1400 Hassell Road, Hoffman Estates, Illinois.
———
Homewood (Village), Cook County (FEMA Docket No. 7259)
Butterfield Creek:
Approximately 500 feet downstream of Halsted Street | *619
Approximately 50 feet upstream of Riegel Road | *632
Maps available for inspection at the Village of Homewood Public Works Department, 17755 South Ashland Avenue, Homewood, Illinois.
———
Indian Head Park (Village), Cook County (FEMA Docket No. 7259)
Plainfield Road Ditch:
Approximately 70 feet upstream of confluence with Flag Creek | *638
Maps available for inspection at the Village of Indian Head Park Municipal Facility, 201 Acadia Drive, Indian Head Park, Illinois.
———
Inverness (Village), Cook County (FEMA Docket No. 7287)
Salt Creek Tributary C:
At upstream side of Roselle Road | *766
Approximately 200 feet upstream of Roselle Road | *767
Salt Creek Tributary B:
Approximately 75 feet upstream of the confluence with Salt Creek | *787
Approximately 450 feet upstream of Palatine Road | *819
Salt Creek Tributary A:
At confluence with Salt Creek | *760
Just downstream of Ela Road | *838
Salt Creek (Upper Reach):
Downstream side of Harrison Avenue | *760
At Roberts Road | *815
Maps available for inspection at the Inverness Village Hall, 1400 Baldwin Road, Inverness, Illinois.
———
Justice (Village), Cook County (FEMA Docket No. 7259)
71st Street Ditch:
Approximately 25 feet upstream of confluence with Chicago Sanitary Drainage and Ship Canal | *581
Approximately 230 feet upstream of 86th Avenue | *592
Maps available for inspection at the Justice Village Engineer's Office, 87th and Roberts Road, Justice, Illinois.
———
Kenilworth (Village), Cook County (FEMA Docket No. 7259)
Lake Michigan:
Entire shoreline affecting community | *585
Maps available for inspection at the Kenilworth Village Hall, 419 Richmond Road, Kenilworth, Illinois.
———
La Grange (Village), Cook County (FEMA Docket No. 7259)
Des Plaines River Tributary A:
Approximately 800 feet downstream of 55th Street | *665
Approximately 300 feet downstream of 55th Street | *667
Maps available for inspection at the La Grange Village Hall, 53 South La Grange Road, La Grange, Illinois.
———
La Grange Park (Village), Cook County (FEMA Docket No. 7259)
Salt Creek:
Approximately 900 feet downstream of Indiana Harbor Belt Railroad | *621
Approximately 1,500 feet upstream of Indiana Harbor Belt Railroad | *622
Maps available for inspection at the La Grange Park Village Hall, Department of Building and Zoning, 447 North Catherine, La Grange Park, Illinois.
———
Lansing (Village), Cook County (FEMA Docket No. 7287)
Lansing Ditch:
Approximately 100 feet downstream of 189th Street | *612
Approximately 0.73 mile upstream of Burnham Avenue | *615
North Creek:
Approximately 925 feet upstream of Torrence Avenue | *610
Approximately 350 feet downstream of confluence of Lansing Ditch | *611
Maps available for inspection at the Village of Lansing Building Department, 18200 Chicago Avenue, Lansing, Illinois.
———
Lemont (Village), Cook County (FEMA Docket No. 7259)
Des Plaines River:
Approximately 7.3 miles downstream of Wentworth Avenue (at downstream corporate limit) | *594
Approximately 3.9 miles downstream of Wentworth Avenue | *595
Maps available for inspection at the Village of Lemont Engineering Department, 418 Main Street, Lemont, Illinois.
———
Lynwood (Village), Cook County (FEMA Docket No. 7287)
Lansing Ditch:
Approximately 0.57 mile downstream of 202nd Street | *615
Approximately 350 feet upstream of Glenwood Dyer Road | *626
Lansing Ditch, Lynwood Tributary:
Downstream side of Glenwood Lansing Road | *611
Subdivision Entrance | *615
Maps available for inspection at the Village Hall, 21460 Lincoln Highway, Lynwood, Illinois.
———
Lyons (Village), Cook County (FEMA Docket No. 7259)
Des Plaines River:
Just upstream of Hoffman Dam | *610
Approximately 0.92 mile upstream of Hoffman Dam | *614
Maps available for inspection at the Lyons Village Building Department, 7801 West Ogden Avenue, Lyons, Illinois.
———
Markham (City), Cook County (FEMA Docket No. 7259)
Calumet Union Drainage Ditch:
At Park Avenue (upstream side) | *606
Approximately 1,000 feet upstream of Central Park Avenue | *623
Calumet Union Drainage Ditch, Southwest Branch:
Approximately 0.87 mile downstream of 167th Street | *609
Approximately 1,200 feet south of intersection of 167th Street and California Avenue | *629
Maps available for inspection at the Markham City Hall, 16313 South Kedzie Parkway, Markham, Illinois.
———
Matteson (Village), Cook County (FEMA Docket No. 7259)
Butterfield Creek:
Upstream side of Crawford Avenue | *685
Just upstream of Interstate 30 | *703
Butterfield Creek East Branch:
Upstream side of Lincoln Highway | *687
Approximately 950 feet upstream of Elgin Joliet & Eastern Railway | *704
Butterfield Creek East Branch Tributary:
At confluence with Butterfield Creek East Branch | *702
Approximately 100 feet upstream of Elgin Joliet & Eastern Railway | *708
Maps available for inspection at the Village of Matteson Planning Department, 3625 West 215th Street, Matteson, Illinois.
———
Maywood (Village), Cook County (FEMA Docket No. 7259)
Addison Creek:
Approximately 200 feet southeast of intersection of I-290 and 25th Avenue | *627
Des Plaines River:
Downstream side of Eisenhower Expressway | *621
Approximately 1,800 feet upstream of Chicago Avenue | *624
Silver Creek:
At confluence with the Des Plaines River | *624
Approximately 1,050 feet downstream of 5th Avenue | *624
Maps available for inspection at the Village of Maywood Public Works Building, Code Enforcement and Planning Department, 1 East Madison, Maywood, Illinois.
———
McCook (Village), Cook County (FEMA Docket No. 7307)
East Avenue Ditch:
At East Avenue | *648
Approximately 1,550 feet upstream of East Avenue | *648
Maps available for inspection at the McCook Village Hall, 50th & Glencoe Aveue, McCook, Illinois.
———
Melrose Park (Village), Cook County (FEMA Docket No. 7259)
Des Plaines River:
Approximately 0.41 mile downstream of Soo Line Railroad | *624
Approximately 75 feet downstream of North Avenue | *625
Silver Creek:
Approximately 1,250 feet downstream of 5th Avenue | *624
Approximately 500 feet upstream of 9th Avenue | *624
Addison Creek:
Approximately 200 feet east of Park View Drive and Edward Avenue | *640
Maps available for inspection at the Village of Melrose Park Building Department, 1000 North 25th Avenue, Melrose Park, Illinois.
———
Midlothian (Village), Cook County (FEMA Docket No. 7259)
Natalie Creek:
At Crawford Avenue | *613
Approximately 650 feet upstream of 149th Street | *636
Midlothian Creek:
Approximately 200 feet downstream of Interstate Route 294 | *604
Approximately 625 feet downstream of Kilbourne Avenue | *626
Natalie Creek Overland Flow:
At confluence with Natalie Creek | *615
At Kenton Avenue | *631
Maps available for inspection at the Midlothian Village Hall, 14801 Pulaski Road, Midlothian, Illinois.
———
Morton Grove (Village), Cook County (FEMA Docket No. 7259)
Chicago River North Branch:
Approximately 250 feet downstream of Oakton Street | *618
Approximately 50 feet downstream of Golf Road | *620
Chicago River, North Branch, West Fork:
At confluence with Chicago River, North Branch | *620
Approximately 50 feet downstream of Golf Road | *620
Maps available for inspection at the Village of Morton Grove Community Development Department, 6101 Capulina, Morton Grove, Illinois.
———
Mount Prospect (Village), Cook County (FEMA Docket No. 7259)
McDonald Creek:
Approximately 100 feet downstream of Foundary Lane | *637
Approximately 1,950 feet upstream of Foundary Lane | *638
Feehanville Ditch:
Approximately 400 feet upstream of Wolf Road | *645
Approximately 2,450 feet upstream of Kensington Road | *649
Des Plaines River:
Approximately 650 feet upstream of Euclid Avenue | *639
Approximately 400 feet upstream of Milwaukee Avenue | *640
Maps available for inspection at the Village of Mount Prospect Public Works Department, Engineering Division, 1700 West Central Road, Mount Prospect, Illinois.
———
Niles (Village), Cook County (FEMA Docket No. 7259)
Chicago River North Branch:
Approximately 150 feet downstream of Touhy Avenue | *615
Approximately 3,900 feet downstream of Dempster Street | *619
Maps available for inspection at the Village of Niles Public Works Department, 6849 West Touhy, Niles, Illinois.
———
Northbrook (Village), Cook County (FEMA Docket No. 7287)
Skokie River:
Approximately 0.4 mile upstream of Dundee Road | *628
Approximately 500 feet downstream of Lake-Cook Road | *632
Skokie River, Botanical Garden Diversion:
Approximately 0.41 mile upstream of confluence with Skokie River | *630
Approximately 0.44 mile upstream of confluence with Skokie River | *630
Maps available for inspection at the Northbrook Village Hall, Village Engineering Department, 1225 Cedar Lane, Northbrook, Illinois.
———
Northfield (Village), Cook County (FEMA Docket No. 7287)
Skokie River, West Ditch:
Just upstream of Willow Road | *626
Approximately 0.5 mile upstream of confluence with Skokie River | *626
Maps available for inspection at the Village of Northfield Community Development Department, 361 Happ Road, Northfield, Illinois.
———
North Riverside (Village), Cook County (FEMA Docket No. 7259)
Des Plaines River:
Upstream side of 31st Street | *616
Approximately 50 feet upstream of Cermak Road | *618
Maps available for inspection at the Village of North Riverside Building Department, 2401 South Des Plaines Avenue, North Riverside, Illinois.
———
Oak Forest (City), Cook County (FEMA Docket No. 7259)
Natalie Creek:
Approximately 75 feet upstream of 151st Street | *639
Approximately 1,500 feet upstream of James Drive (155th Street) | *654
Midlothian Creek Western Branch:
At the confluence with Midlothian Creek | *648
Approximately 200 feet upstream of the confluence with Midlothian Creek | *651
Midlothian Creek:
Approximately 475 feet downstream of Kenton Avenue | *630
Approximately 1,575 feet downstream of 167th Street | *662
Boca Rio Ditch:
Approximately 100 feet upstream of 147th Street | *659
Approximately 1,550 feet downstream of 151st Street | *665
Maps available for inspection at the Oak Forest City Hall, 15440 South Central Avenue, Oak Forest, Illinois.
———
Olympia Fields (Village), Cook County (FEMA Docket Nos. 7259 & 7287)
Butterfield Creek Tributary No. 4:
Approximately 50 feet downstream from intersection of Kedzie Avenue with Vollmer Road | *683
Approximately 100 feet downstream from Governors Highway | *697
Butterfield Creek:
Just upstream of Vollmer Road | *656
Just downstream of Crawford Avenue | *685
Butterfield Creek East Branch:
Confluence with Butterfield Creek | *685
Downstream side of downstream Lincoln Highway | *686
Maps available for inspection at the Olympia Fields Village Hall, 20701 Governors Highway, Olympia Fields, Illinois.
———
Orland Park (Village), Cook County (FEMA Docket No. 7259)
Marley Creek Tributary D:
Approximately 50 feet downstream of Norfolk and Western Railway | *688
Approximately 1.2 miles upstream of 104th Avenue | *702
Marley Creek:
Approximately 700 feet downstream of 108th Avenue | *687
Approximately 1,200 feet southwest of the intersection of 159th Street and 96th Avenue | *692
Long Run Tributary A:
Ponding area just east of 108th Avenue | *707
Ponding area south and east of Golf Road | *709
Ponding area approximately 300 feet north of intersection of Lake Ridge and Golf Road | *715
Spring Creek Ponding Areas:
Upstream side of 108th Avenue | *709
Between 108th Avenue and Misty Hill Road | *709
Between Hollow Tree Road and Golf Road | *730
Between Hollow Tree Road and Golf Road | *739
Spring Creek:
Approximately 1,400 feet upstream of Wolf Road | *700
Approximately 2,800 feet upstream of Wolf Road | *700
Tinley Creek:
Approximately 300 feet upstream of 82nd Avenue | *661
Approximately 600 feet upstream of Wheeler Drive | *683
Maps available for inspection at the Village of Orland Park Engineering Department, 14700 Ravinia Avenue, Orland Park, Illinois.
———
Palatine (Village), Cook County (FEMA Docket No. 7307)
Salt Creek, Arlington Heights Branch Anderson Drive Tributary:
At confluence with Salt Creek, Arlington Heights Branch | *717
Approximately 450 feet upstream of Evergreen Drive | *719
Salt Creek, Arlington Heights Branch:
Upstream side of Northwest Highway | *711
Downstream side of Quentin Road | *771
Salt Creek (Upper Reach):
Approximately 1,900 feet downstream of Euclid Avenue | *725
Downstream side of Roselle Road | *764
Salt Creek Tributary C:
Approximately 1,200 feet upstream of Quentin Road | *750
Downstream side of Roselle Road | *765
Buffalo Creek Tributary A:
Approximately 200 feet upstream of Dundee Road | *743
At confluence with Salt Creek Arlington Heights Branch | *759
Maps available for inspection at the Palatine Village Hall, 200 East Wood Street, Palatine, Illinois.
———
Palos Hills (City), Cook County (FEMA Docket No. 7259)
Lucas Ditch:
At 111th Street | *585
Just downstream of 80th Court | *594
Lucas Ditch Cutoff:
Approximately 1,200 feet upstream of confluence with Stony Creek (West) | *589
Approximately 1,375 feet upstream of confluence of Lucas Ditch Cutoff Tributary | *594
Maps available for inspection at the Palos Hills City Hall, 10335 South Roberts Road, Palos Hills, Illinois.
———
Palos Park (Village), Cook County (FEMA Docket No. 7259)
Calumet Sag Channel Tributary B:
Upstream side of Calumet Sag Road | *606
Downstream side of 119th Street | *609
Mill Creek:
Approximately 400 feet upstream of 127th Street (at intersection of Algoma Drive and Roma Road) | *666
Approximately 100 feet downstream of 129th Street | *667
Maps available for inspection at the Palos Park Village Hall, 8901 West 123rd Street, Palos Park, Illinois.
———
Park Ridge (City), Cook County (FEMA Docket No. 7259)
Des Plaines River:
Approximately 100 feet upstream of Higgins Road | *629
Approximately 175 feet downstream of I-294 (Tristate Tollway) | *631
Maps available for inspection at the City of Park Ridge Public Works Department, 505 Butler Place, Park Ridge, Illinois.
———
Prospect Heights (City), Cook County (FEMA Docket No. 7259)
McDonald Creek Tributary A:
At the confluence with McDonald Creek | *651
At Elmhurst Avenue | *651
Des Plaines River:
Approximately 65 feet downstream of Milwaukee Avenue | *639
At confluence of Wheeling Drainage Ditch | *640
Maps available for inspection at the Prospect Heights City Hall, 1 North Elmhurst Road, Prospect Heights, Illinois.
———
Richton Park (Village), Cook County (FEMA Docket No. 7259)
Butterfield Creek East Branch:
Approximately 350 feet downstream of Maple Road | *705
Approximately 400 feet south of the intersection of Crescent Way and Imperial Drive | *730
Butterfield Creek East Branch Tributary:
Approximately 50 feet upstream of Elgin Joliet & Eastern Railway | *708
Approximately 700 feet upstream of Lake Shore Drive | *731
Butterfield Creek East Branch Tributary A:
Approximately 580 feet downstream of Amy Drive | *723
Approximately 238 feet downstream of Amy Drive | *723
Maps available for inspection at the Richton Park Municipal Building, 4455 Sauk Trail, Richton Park, Illinois.
———
River Forest (Village), Cook County (FEMA Docket No. 7259)
Des Plaines River:
Upstream side of Madison Street | *622
Downstream side of North Avenue | *625
Maps available for inspection at the River Forest City Hall, 400 Park Avenue, River Forest, Illinois.
———
River Grove (Village), Cook County (FEMA Docket No. 7259)
Des Plaines River:
Just upstream of North Avenue | *625
Downstream side of Belmont Avenue | *625
Golf Course Tributary:
At confluence with the Des Plaines River | *625
At Thatcher Road | *625
Maps available for inspection at the Village of River Grove Administrative Offices, 2621 Thatcher Avenue, River Grove, Illinois.
———
Riverdale (Village), Cook County (FEMA Docket No. 7303)
Little Calumet River:
Approximately 600 feet upstream of the confluence with Calumet Sag Channel | *588
Maps available for inspection at the Riverdale Village Hall, Office of Community and Economic Development, 157 West 144th Street, Riverdale, Illinois.
———
Riverside (Village), Cook County (FEMA Docket No. 7259)
Des Plaines River:
Approximately 50 feet upstream of Ogden Avenue | *600
Downstream side of 31st Street | *616
Maps available for inspection at the Village of Riverside Building/Zoning Department, 27 Riverside Road, Riverside, Illinois.
———
Rolling Meadows (City), Cook County (FEMA Docket No. 7287)
Salt Creek Tributary C:
At confluence with Salt Creek (Upper Reach) | *721
Approximately 70 feet downstream of Euclid Avenue | *753
Salt Creek, Arlington Heights Branch:
At confluence with Salt Creek | *700
Downstream side of Euclid Avenue | *706
Salt Creek (Upper Reach):
At Evanston-Elgin Road | *693
Approximately 75 feet upstream of Euclid Avenue | *725
Maps available for inspection at the City of Rolling Meadows Building and Zoning Department, 3600 Kirchoff Road, Rolling Meadows, Illinois.
———
Rosemont (Village), Cook County (FEMA Docket No. 7259)
Willow Creek:
At confluence with Des Plaines River | *629
Approximately 895 feet upstream of confluence with Des Plaines River | *629
Des Plaines River:
At downstream corporate limit | *628
Approximately 1,450 feet upstream of West Higgins Road | *628
Maps available for inspection at the Village of Rosemont Engineer's Office, Christopher B. Burke Engineering, Ltd., 9575 West Higgins Road, Suite 600, Rosemont, Illinois.
———
Sauk Village (Village), Cook County (FEMA Docket No. 7287)
Lansing Ditch:
Approximately 750 feet downstream of Sauk Trail Road | *631
Approximately 0.96 mile upstream of 223rd Street | *653
Lansing Ditch East Tributary:
At confluence with Lansing Ditch | *635
Approximately 0.6 mile upstream of Katz Corner Road | *646
Lansing Ditch West Tributary:
Approximately 1,250 feet upstream of the confluence with Lansing Ditch | *631
Approximately 50 feet upstream of Torrence Avenue | *631
Lansing Ditch Torrence Tributary:
Approximately 0.78 mile upstream of confluence with Lansing Ditch | *629
Approximately 1.28 miles upstream of confluence with Lansing Ditch | *630
Maps available for inspection at the Village of Sauk Village Building Department, 21701 Torrence Avenue, Sauk Village, Illinois.
———
Schaumburg (Village), Cook County (FEMA Docket No. 7287)
Salt Creek, West Branch Tributary 5:
At confluence with Salt Creek West Branch Tributary 3 | *729
Approximately 250 feet upstream of Summit Drive | *746
Salt Creek, West Branch Tributary 4:
Approximately 210 feet upstream of confluence with Salt Creek West Branch Tributary 3 | *737
Approximately 200 feet upstream of Roselle Road | *788
Salt Creek, West Branch Tributary 3:
Approximately 280 feet upstream of confluence with Salt Creek West Branch | *715
Approximately 350 feet upstream of Roselle Road | *777
Salt Creek, West Branch Tributary 6:
At upstream side of Plum Grove Road | *720
Approximately 100 feet upstream of Summit Drive | *744
Salt Creek, West Branch Tributary 7:
Approximately 200 feet upstream of Baltimore Drive | *721
Approximately 125 feet downstream of Plum Grove Road | *735
Salt Creek West Branch:
Approximately 150 feet downstream of Interstate Route 290 | *693
Approximately 100 feet upstream of Roselle Road | *748
Salt Creek West Branch Tributary A:
Approximately 1,375 feet upstream of confluence with Salt Creek West Branch | *730
Approximately 650 feet downstream of Basswood Road | *740
Salt Creek Tributary D:
At confluence with Salt Creek (Upper Reach) | *718
Approximately 1,000 feet upstream of Hammond Drive | *732
Salt Creek (Upper Reach):
Approximately 60 feet downstream Meacham Road | *716
Approximately 75 feet upstream Hartung Road | *721
Salt Creek Tributary C:
Approximately 1,000 feet northwest of the intersection of Algonquin Road and College Drive | *750
Maps available for inspection at the Village of Schaumburg Engineering Department, 101 Schaumburg Court, Schaumburg, Illinois.
———
Schiller Park (Village), Cook County (FEMA Docket No. 7259)
Des Plaines River:
Approximately 0.42 mile downstream of Irving Park Road | *627
Downstream side of Foster Avenue | *628
Crystal Creek:
At confluence with the Des Plaines River | *628
Approximately 924 feet upstream of Scott Avenue | *639
Sexton Ditch:
At confluence with Crystal Creek Tributary | *643
Approximately 1,800 feet upstream of confluence with Crystal Creek Tributary | *643
Motel Ditch:
At confluence with Industrial Tributary | *641
Approximately 2,025 feet upstream of Belle Plaine Avenue | *641
Industrial Tributary:
At confluence with Crystal Creek Tributary | *640
Approximately 625 feet upstream of TransWorld Road | *645
Crystal Creek Tributary:
At confluence with Crystal Creek | *639
Approximately 85 feet downstream of Panoramic Drive | *643
Maps available for inspection at the Village of Schiller Park Building Department, 4501 North 25th Avenue, Schiller Park, Illinois.
———
South Barrington (Village), Cook County (FEMA Docket No. 7259)
Poplar Creek Tributary:
Approximately 2,350 feet upstream of confluence with Poplar Creek | *811
Approximately 1,600 feet upstream of confluence with Poplar Creek | *810
Maps available for inspection at the South Barrington Village Hall, 30 South Barrington Road, South Barrington, Illinois.
———
South Chicago Heights (Village), Cook County (FEMA Docket No. 7259)
Thorn Creek/Sauk Lake:
At downstream corporate limit | *682
Approximately 2,150 feet upstream of 26th Street | *682
Maps available for inspection at the South Chicago Heights Village Hall, 3317 Chicago Road, South Chicago Heights, Illinois.
———
South Holland (Village), Cook County (FEMA Docket No. 7259)
Calumet Union Drainage Ditch:
Approximately 920 feet downstream of Vincennes Road | *598
Approximately 1,260 feet upstream of Vincennes Road | *602
Maps available for inspection at the Village of South Holland Planning and Development Department, 16226 Wausau, South Holland, Illinois.
———
Tinley Park (Village), Cook and Will Counties (FEMA Docket No. 7259)
Midlothian Creek Western Tributary:
Confluence with Midlothian Creek | *697
Approximately 1,000 feet upstream of 168th Street | *702
Midlothian Creek:
Approximately 175 feet downstream of Gentry Lane | *682
Approximately 100 feet upstream of 175th Street | *701
76th Avenue Ditch:
Confluence with Midlothian Creek | *694
Approximately 50 feet downstream of 159th Street | *703
Tinley Park Reservoir:
Entire shoreline within community | *694
Tinley Park Reservoir Shallow Flooding Area:
Approximately 650 feet west of intersection of Oleander Avenue and 167th Street | #2
Filsen Park Ditch:
At the confluence with 76th Avenue Ditch | *696
Approximately 100 feet upstream of Harlem Avenue | *696
Ponding Area:
At intersection of 70th Avenue and 176th Street | *695
Union Drainage Ditch:
Upstream side of Oak Park Avenue | *694
Approximately 1,675 feet upstream of Oak Park Avenue | *694
Maps available for inspection at the Tinley Park Village Hall, 16250 South Oak Park Avenue, Tinley Park, Illinois.
———
University Park (Village), Cook and Will Counties (FEMA Docket No. 7259)
Butterfield Creek East Branch:
Approximately 350 feet northwest of the intersection of Davis Avenue and Kostner Avenue | *730
At the county boundary (approximately 2,000 feet upstream of Polk Avenue) | *741
Maps available for inspection at the University Park Village Hall, 698 Burnham Drive, University Park, Illinois.
———
Westchester (Village), Cook County (FEMA Docket No. 7259)
Salt Creek:
Approximately 50 feet upstream of Mannheim Road | *625
Approximately 100 feet upstream of 31st Street | *631
Maps available for inspection at the Village of Westchester Building Department, 10300 Roosevelt Road, Westchester, Illinois.
———
Wheeling (Village), Cook County (FEMA Docket No. 7287)
McDonald Creek:
Downstream side of Wheeling Road | *650
Approximately 1,300 feet downstream of Wheeling Road | *649
Wheeling Drainage Ditch:
At confluence with Des Plaines River | *641
Approximately 1,000 feet downstream of Hintz Road | *641
Des Plaines River:
Approximately 450 feet downstream of confluence of Wheeling Drainage Ditch | *641
Approximately 50 feet downstream of County Line Road | *644
Maps available for inspection at the Village of Wheeling Engineering Office, 255 West Dundee Road, Wheeling, Illinois.
———
Wilmette (Village), Cook County (FEMA Docket No. 7259)
Chicago River, North Branch:
Approximately 50 feet downstream of East Lake Avenue | *623
At confluence of Skokie River | *624
Skokie River:
At confluence with Chicago River, North Branch | 624
Approximately 650 feet upstream of Edens Expressway | 625
Lake Michigan:
Entire shoreline affecting community | *585
Skokie River, West Ditch:
At intersection of 21st Street and Beechwood Avenue | *626
Maps available for inspection at the Wilmette Village Hall, 1200 Wilmette Avenue, Wilmette, Illinois.
———
Worth (Village), Cook County (FEMA Docket No. 7259)
Stony Creek (West):
Approximately 0.78 mile downstream of Harlem Avenue | *589
Just at downstream side of Harlem Avenue | *591
Maps available for inspection at the Worth Village Hall, 7112 West 111th Street, Worth, Illinois.
———
Indianapolis (City), Marion County (FEMA Docket No. 7303)
Derbyshire Creek:
Approximately 275 feet upstream of Perrault Drive | *770
Upstream Limit of Detailed Study at McFarland Road (approximately 325 feet north of intersection of East Banta Road and McFarland Road) | *773
O'Brian Ditch:
Upstream side of 42nd Street | *835
Approximately 1,150 feet upstream of Black Locust Drive | *853
Maps available for inspection at the City-County Building, 200 East Washington Street, Room 2142, Indianapolis, Indiana.
MASSACHUSETTS
Braintree (Town), Norfolk County (FEMA Docket No. 7299)
Cochato River:
Upstream face of Richardi Reservoir Dam No. 1 | *105
Braintree/Randolph corporate limits | *109
Maps available for inspection at the Braintree Town Hall, One J.F.K. Memorial Drive, Braintree, Massachusetts.
MICHIGAN
Blaine (Township), Benzie County (FEMA Docket No. 7303)
Lake Michigan:
Entire shoreline within the community | *585
Maps available for inspection at the Blaine Township Hall, Meeting Room, 4760 Herring Grove Road (White Owl Road), Arcadia, Michigan.
———
DeTour (Township), Chippewa County (FEMA Docket No. 7303)
Lake Huron:
Entire shoreline within the community | *584
Saint Marys River:
Entire shoreline within the community | *584
Maps available for inspection at the DeTour Township Office, 260 Superior Street, DeTour Village, Michigan.
———
Drummond Island (Township), Chippewa County (FEMA Docket No. 7303)
Saint Marys River:
Entire shoreline within the community | *584
Maps available for inspection at the Drummond Island Township Hall, 110 Center Street, Drummond Island, Michigan.
———
Garfield (Township), Mackinac County (FEMA Docket No. 7303)
Lake Michigan:
Entire shoreline within the community | *585
Maps available for inspection at the Garfield Township Hall, Route 1, Krause Road, Engadine, Michigan.
———
Mankato (City), Blue Earth & Nicollet Counties (FEMA Docket No. 7267)
Minnesota River:
At downstream corporate limits | *774
At upstream corporate limits | *786
Blue Earth River:
At confluence with Minnesota River | *785
Approximately 2,250 feet upstream of U.S. Highway 169 | *785
Maps available for inspection at the Mankato City Hall, 10 Civic Center Plaza, Mankato, Minnesota.
———
Moran (Township), Mackinac County (FEMA Docket No. 7303)
Lake Michigan:
Entire shoreline within community | *585
Maps available for inspection at the Moran Township Hall, 1358 West U.S. Highway 2, St. Ignace, Michigan.
———
Onota (Township), Alger County (FEMA Docket No. 7303)
Lake Superior:
Entire shoreline within the community | *604
Maps available for inspection at the Onota Township Hall, 1461 Deerton Sandlake Road, Deerton, Michigan.
———
Powell (Township), Marquette County (FEMA Docket No. 7303)
Lake Superior:
Entire shoreline within the community | *604
Maps available for inspection at the Powell Township Hall, 101 Bensinger Avenue, Big Bay, Michigan.
———
St. Ignace (Township), Mackinac County (FEMA Docket No. 7303)
Lake Huron:
Entire shoreline within community | *585
Maps available for inspection at the Mackinac County Courthouse Annex, 100 North Marley, Room 115, St. Ignace, Michigan.
NEW HAMPSHIRE
Bow (Town), Merrimack County (FEMA Docket No. 7279)
Merrimack River:
At the confluence of the Soucook River | *204
Approximately 1.52 miles upstream of Garvins Falls Dam | *228
Maps available for inspection at the Bow Town Hall, Building Department, 10 Grandview Road, Bow, New Hampshire.
———
Charlestown (Town), Sullivan County (FEMA Docket No. 7283)
Connecticut River:
At a point approximately 1.35 miles downstream of confluence of Jabes Meadow Brook | *302
Approximately 2.3 miles upstream of the confluence of Ox Brook | *312
Little Sugar River:
At the confluence with Connecticut River | *307
Approximately 1,500 feet upstream of the confluence with Connecticut River | *307
Beaver Brook:
At the confluence with Connecticut River | *306
Approximately 1.2 miles upstream of the confluence with Connecticut River | *306
Maps available for inspection at the Charlestown Town Hall, Selectmen's Office, 26 Railroad Street, Charlestown, New Hampshire.
NEW JERSEY
Mantoloking (Borough), Ocean County (FEMA Docket No. 7275)
Barnegat Bay:
Approximately 200 feet east of the intersection of Runyon Lane and Albertson Street | *6
Atlantic Ocean:
Approximately 450 feet east of the intersection of Herbert Street and Ocean Avenue | *15
Approximately 30 feet west of the intersection of Stephens Place and East Avenue | #1
Approximately 80 feet east of the intersection of Stephens Place and East Avenue | *13
Maps available for inspection at the Mantoloking Borough Hall, 202 Downer Avenue, Mantoloking, New Jersey.
———
Scotch Plains (Township), Union County (FEMA Docket No. 7247)
Green Brook:
Approximately 250 feet upstream of Terrill Road | *136
At upstream corporate limits | *198
Blue Brook:
At confluence with Green Brook | *198
At upstream corporate limits | *240
Maps available for inspection at the Township of Scotch Plains Engineering Office, 430 Park Avenue, Scotch Plains, New Jersey.
NEW YORK
Brunswick (Town), Rensselaer County (FEMA Docket No. 73030)
Piscawen Kill:
At the Brunswick/Troy corporate limits | *363
Approximately 50 feet upstream of North Lake Avenue Crossing #4 | *477
Maps available for inspection at the Brunswick Town Hall, Assessor's Office, 308 Town Office Road, Troy, New York.
———
Clarkstown (Town), Rockland County (FEMA Docket No. 7279)
Demarest Kill:
Approximately 750 feet upstream of the confluence with West Branch Hackensack River | *97
Approximately 1,900 feet upstream of New Hempstead Road | *173
Pascack Brook:
Upstream side of Pascack Road | *354
Approximately 2,500 feet upstream of Pascack Road | *410
Maps available for inspection at the Town of Clarkstown Department of Environmental Control, 10 Maple Avenue, New York City, New York.
———
Cold Brook (Village), Herkimer County (FEMA Docket Nos. 7295 and 7307)
Sheet Flow:
Approximately 880 feet north of intersection of State Route 8 and Rose Valley Road along east side of State Route 8 | #2
Approximately 1,170 feet north of intersection of State Route 8 and Military Road along east side of State Route 8 | #2
Approximately 1,720 feet north of intersection of State Route 8 and Military Road along the west side of State Route 8 | #2
Cold Brook:
Approximately 80 feet downstream of U.S. Route 8 where it crosses just upstream of the downstream corporate limits | *797
Approximately 75 feet upstream of U.S. Route 8 where it crosses just downstream of the upstream corporate limits | *1,012
Maps available for inspection at the Cold Brook Village Hall, 457 Main Street, Cold Brook, New York.
———
Frankfort (Town), Herkimer County (FEMA Docket No. 7299)
Mohawk River:
Approximately 0.38 mile downstream of Railroad Street | *395
Approximately 0.31 mile downstream of upstream corporate limits | *407
Maps available for inspectionat the Frankfort Village Hall, Clerk's Office, 126 East Orchard Street, Frankfort, New York.>
———
Lowville (Town), Lewis County (FEMA Docket No. 7291)
Mill Creek:
At confluence with Black River | *744
At upstream corporate limits | *760
Maps available for inspection at the Lowville Town Hall, 5533 Bostwick, Lowville, New York.
———
Painted Post (Village), Steuben County (FEMA Docket No. 7295)
Chemung River:
At the downstream corporate limits | *934
At confluence of Cohocton and Tioga Rivers | *935
Cohocton River:
At confluence with Chemung and Tioga Rivers | *935
Approximately 1,600 feet upstream of CONRAIL | *938
Tioga River:
At confluence with Chemung and Cohocton Rivers | *935
Approximately 0.9 mile upstream of confluence with Chemung River | *938
Maps available for inspection at the Painted Post Village Hall, Corner of Steuben & West High Street, Painted Post, New York.
———
Prospect (Village), Oneida County (FEMA Docket No. 7311)
West Canada Creek:
At Military Road | *1,078
Approximately 2,030 feet upstream of Military Road | *1,127
Maps available for inspection at the Prospect Village Office, 915 Trenton Falls Street, Prospect, New York.
NORTH CAROLINA
Franklin County (Unincorporated Areas) (FEMA Docket No. 7307)
Tar River:
Approximately 1,000 feet upstream of the Nash County boundary | *172
At the Vance County boundary | *246
Maps available for inspection at the Franklin County Planning and Development Office, 215 East Nash Street, Louisburg, North Carolina.
———
Louisburg (Town), Franklin County (FEMA Docket No. 7307)
Tar River:
A point approximately 1.98 miles downstream of South Bickett Boulevard | *201
A point approximately 2.4 miles upstream of North Main Street | *213
Maps available for inspection at the Louisburg Town Hall, 110 West Nash Street, Louisburg, North Carolina.
PENNSYLVANIA
Allegheny (Township), Westmoreland County (FEMA Docket No. 7295)
Allegheny River:
Approximately 4,100 feet of upstream side of Lock and Dam #4 | *764
Approximately 920 feet downstream of confluence with Kiskiminetas River | *770A
Maps available for inspection at the Allegheny Township Supervisor's Office, 136 Community Building Road, Leechburg, Pennsylvania.
———
Arnold (City), Westmoreland County (FEMA Docket No. 7295)
Allegheny River:
Approximately 2,300 feet upstream of New Kensington Highway | *753
Approximately 4,300 feet upstream of New Kensington Highway | *754
Maps available for inspection a the Arnold City Hall, 1829 Fifth Avenue, Arnold, Pennsylvania.
———
Dingman (Township), Pike County (FEMA Docket No. 7311)
Delaware River:
Approximately 3.0 miles downstream of U.S. Route 206 | *391
Approximately 1.0 mile upstream of U.S. Route 206 | *403
Maps available for inspection at the Dingman Township Hall, 118 Fisher Lane, Milford, Pennsylvania.
———
Greene (Township), Pike County (FEMA Docket No. 7311)
Lake Wallenpaupack:
Entire shoreline within community | *1,191
Maps available for inspection at the Greene Township Building, Brink Hill Road, Greentown, Pennsylvania.
———
Lehman (Township), Pike County (FEMA Docket No. 7311)
Delaware River:
Approximately 0.51 mile upstream of confluence of Bushkill Creek | *349
Approximately 1.4 miles upstream of confluence of Bushkill Creek | *354
Maps available for inspection at the Lehman Zoning Office, Municipal Road, Bushkill, Pennsylvania.
———
Lower Burrell (City), Westmoreland County (FEMA Docket No. 7295)
Allegheny River:
Approximately 1,600 feet upstream of Stevenson Boulevard | *756
Approximately 1,300 feet downstream of Lock and Dam # 4 | *758
Maps available for inspection at the City of Lower Burrell Engineer's Office, 2800 Bethel Street, Lower Burrell, Pennsylvania.
———
Matamoras (Borough), Pike County (FEMA Docket No. 7311)
Delaware River:
Approximately 355 feet downstream of State Route 84 | *426
Approximately 3,020 feet upstream of Pennsylvania Avenue | *440
Maps available for inspection at the Matamoras Borough Hall, Avenue I, Matamoras, Pennsylvania.
———
Milford (Borough), Pike County (FEMA Docket No. 7311)
Delaware River:
Approximately 1.0 mile upstream of U.S. Route 206 | *403
Approximately 1.5 miles upstream of U.S. Route 206 | *405
Maps available for inspection at the Milford Borough Office, 111 West Catherine Street, Milford, Pennsylvania.
———
Milford (Township), Pike County (FEMA Docket No. 7311)
Delaware River:
Approximately 1.5 miles upstream of U.S. Route 206 | *405
Approximately 2.7 miles upstream of U.S. Route 206 | *409
Maps available for inspection at the Milford Township Office, 590 Route 6 and 209, Milford, Pennsylvania.
———
New Kensington (City), Westmoreland County (FEMA Docket No. 7295)
Allegheny River:
Approximately 1,400 feet upstream of New Kensington Highway | *753
Approximately 1,600 feet upstream of Stevenson Boulevard | *756
Maps available for inspection at the New Kensington Municipal Building, 301 11th Street, New Kensington, Pennsylvania.
———
Palmyra (Township), Pike County (FEMA Docket No. 7311)
Lake Wallenpaupack:
Entire area within community | *1,191
Lackawaxen River:
Approximately 100 feet upstream of Kimbles Road | *835
Approximately 3.4 miles upstream of Kimbles Road | *884
Wallenpaupack Creek:
Approximately 0.7 mile downstream of U.S. Route 6 | *1,040
Approximately 1,500 feet upstream of U.S. Route 6 | *1,138
Maps available for inspection at the Palmyra Township Building, Gumbletown Road, Buehler Lane, Paupack, Pennsylvania.
———
Shohola (Township), Pike County (FEMA Docket No. 7311)
Delaware River:
Approximately 1,200 feet downstream of Pond Eddy Bridge | *527
Approximately 6.8 miles upstream of Pond Eddy | *578
Maps available for inspection at the Shohola Township Hall, 159 Twin Lakes Road, Shohola, Pennsylvania.
———
Westfall (Township), Pike County (FEMA Docket No. 7311)
Delaware River:
Approximately 1.4 miles downstream of confluence of Cummings Creek | *409
Approximately 1,050 feet downstream of Pond Eddy Bridge | *527
Maps available for inspection at the Westfall Township Municipal Building, 102 La Barr Lane, Matamoras, Pennsylvania.
SOUTH CAROLINA
Camden (City), Kershaw County (FEMA Docket No. 7295)
Bolton Branch:
Approximately 40 feet upstream of Wilder Street | *172
Approximately 300 feet upstream of Wylie Street | *175
Unnamed Tributary to Bolton Branch:
Approximately 200 feet downstream of Wylie Street | *167
Downstream side of Campell Street | *178
Maps available for inspection at the City of Camden Building Department, City Hall, 1000 Lyttleton Street, Camden, South Carolina.
———
Kershaw County (Unincorporated Areas) (FEMA Docket No. 7295)
Bolton Branch:
Approximately 330 feet downstream of Old Chestnut Ferry Road | *152
Approximately 40 feet upstream of Wilder Street | *172
Flat Branch:
At confluence with Twentyfive Mile Creek | *182
Approximately 245 feet upstream of Wildwood Lane | *271
Gilles Creek:
Approximately 250 feet upstream of the confluence with Gilles Ditch | *145
Approximately 0.81 mile upstream of Gilles Creek Road | *225
Haig Creek:
At confluence with Spears Creek | *155
Approximately 865 feet upstream of Fort Jackson Road | *178
Horsepen Creek:
At confluence with Twentyfive Mile Creek | *188
Approximately 300 feet upstream of Highway 1 | *292
McCaskill Creek:
At U.S. Route 601 | *142
Approximately 1.3 miles upstream of confluence of Rununder Branch | *237
Rununder Branch:
At confluence with McCaskill Creek | *188
Approximately 0.37 mile upstream of Spring Creek Road | *246
Sandy Branch:
At confluence with Twentyfive Mile Creek | *235
Approximately 1.14 miles upstream of Watson Street (At county boundary) | *261
Sloan Branch:
At confluence with Spears Creek | *166
Approximately 320 feet upstream of Tower Road | *203
Spears Creek:
At U.S. Route 601 | *143
Approximately 1.3 miles upstream of Fort Jackson Road | *189
Tributary to Haig Creek 1:
At confluence with Haig Creek | *178
Approximately 1.6 miles upstream of Whiting Way | *246
Tuppler Branch:
At confluence with Sandy Branch | *243
Approximately 105 feet upstream of Sessions Road | *305
Twentyfive Mile Creek:
Approximately 1.4 miles downstream of Pine Grove Road | *159
At upstream county boundary | *261
Unnamed Tributary to Bolton Branch:
At confluence with Bolton Branch | *158
Approximately 200 feet downstream of Wylie Street | *167
Yankee Branch:
At confluence with Twentyfive Mile Creek | *203
Approximately 0.68 mile upstream of Chestnut Road | *287
Maps available for inspection at the Kershaw County Planning and Zoning Office, County Courthouse, 1121 Broad Street, Camden, South Carolina.
VIRGINIA
Monterey (Town), Highland County (FEMA Docket No. 7307)
West Straight Creek:
Approximately 120 feet downstream of the downstream corporate limits | *2,847
Approximately 615 feet upstream of Mill Alley | *2,965
Maps available for inspection at the Town of Monterey Building and Zoning Office, Courthouse Annex, Spruce Street, Monterey, Virginia.
WEST VIRGINIA
Moorefield (Town), Hardy County (FEMA Docket No. 7307)
Unnamed Ponding Area:
Approximately 500 feet southwest of the intersection of U.S. Route 220 and Monroe Avenue | *804
South Branch Potomac River:
Unnamed tributary from downstream corporate limits to Spring Avenue | *798
Maps available for inspection at the Moorefield Town Hall, 206 Winchester Avenue, Moorefield, West Virginia.

(Catalog of Federal Domestic Assistance No. 83.100, “Flood Insurance”)
Dated: August 25, 2000.
Michael J. Armstrong,
Associate Director for Mitigation.

[FR Doc. 00-22805 Filed 9-5-00; 8:45 am]

BILLING CODE 6718-04-P